DEPARTMENT OF COMMERCE

International Trade Administration

[A-580-886]

Ferrovanadium From the Republic of Korea: Postponement of Preliminary Determination of Antidumping Duty Investigation

AGENCY: Enforcement and Compliance, International Trade Administration, Department of Commerce.

DATES: Effective August 19, 2016.

FOR FURTHER INFORMATION CONTACT: Andrew Martinez at (202) 482-3627 or Karine Gziryan at (202) 482-4081; AD/CVD Operations, Enforcement and Compliance, International Trade Administration, U.S. Department of Commerce, 14th Street and Constitution Avenue NW., Washington, DC 20230.

SUPPLEMENTARY INFORMATION:

Background

On April 25, 2016, the Department of Commerce (Department) published a notice of initiation of an antidumping duty investigation on ferrovanadium from the Republic of Korea.¹ Section 733(b)(1)(A) of the Tariff Act of 1930, as amended (the Act), and 19 CFR 351.205(b)(1) state the Department will make a preliminary determination no later than 140 days after the date of the initiation. The current deadline for the preliminary determination of this investigation is no later than September 5, 2016.

¹ See Ferrovanadium from the Republic of Korea: Initiation of Less-Than-Fair Value Investigation, 81 FR 24059 (April 25, 2016).

Postponement of Preliminary Determination

Section 733(c)(1)(A) of the Act allows the Department to postpone the preliminary determination until no later than 190 days after the date on which the Department initiated the investigation if the petitioner makes a timely request for an extension of the period within which the determination must be made. On August 5, 2016, the Vanadium Producers and Reclaimers Association (VPRA) and VPRA members AMG Vanadium LLC (AMG V), Bear Metallurgical Company (Bear), Gulf Chemical & Metallurgical Corporation (Gulf), and Evraz Stratcor, Inc. (Stratcor) (collectively, Petitioners) made a timely request, pursuant to 19 CFR 351.205(e), for postponement of the preliminary determination, in order to provide the Department with sufficient time to develop the record in this proceeding. Because there are no compelling reasons to deny Petitioners' request, in accordance with section 733(c)(1)(A) of the Act, the Department is postponing the deadline for the preliminary determination by 50 days.

The new deadline for the preliminary determination is October 25, 2016. In accordance with section 735(a)(1) of the Act, the deadline for the final determination of this investigation will continue to be 75 days after the date of the preliminary determination, unless postponed at a later date.

This notice is issued and published pursuant to section 733(c)(2) of the Act and 19 CFR 351.205(f)(1).

Dated: August 12, 2016.
Paul Piquado,
Assistant Secretary for Enforcement and Compliance.

[FR Doc. 2016-19857 Filed 8-18-16; 8:45 am]

BILLING CODE 3510-DS-P